DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the name of 1 individual whose property and interests in property are blocked pursuant to Executive Order 13224 of September 23, 2001, “Blocking Property and Prohibiting Transactions With Persons Who Commit, Threaten To Commit, or Support Terrorism.”

DATES: OFAC's action described in this notice is effective on February 10, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On February 10, 2016, OFAC blocked the property and interests in property of the following 1 individual pursuant to E.O. 13224, “Blocking Property and Prohibiting Transactions With Persons Who Commit, Threaten To Commit, or Support Terrorism”:

Individual

1. AL-HABABI, Nayf Salam Muhammad Ujaym (a.k.a. AL-HABABI, Nayef Salam Muhammad Ujaym; a.k.a. AL-QAHTANI AL-QATARI, Farouq; a.k.a. AL-QAHTANI, Faruq; a.k.a. AL-QAHTANI, Sheikh Farooq; a.k.a. AL-QATARI, Faruq; a.k.a. AL-QATARI, Sheikh Farooq; a.k.a. FAROUK, Shaykh Imran), Afghanistan; DOB 01 Jan 1979 to 31 Dec 1981; POB Saudi Arabia; nationality Qatar; alt. nationality Saudi Arabia; Passport 592667 (Qatar) issued 03 May 2007; Sheikh (individual) [SDGT] (Linked To: AL QA'IDA).

Dated: February 10, 2016.
John E. Smith,
Acting Director, Office of Foreign Assets Control.

[FR Doc. 2016-03041 Filed 2-12-16; 8:45 am]

BILLING CODE 4810-AL-P